NATIONAL SCIENCE FOUNDATION

Agency Information Collection Activities: Comment Request; Office of Polar Programs Arctic Sciences Section

AGENCY: National Science Foundation.

ACTION: Notice.

SUMMARY: The National Science Foundation (NSF) is announcing plans to establish this collection. In accordance with the requirements of the Paperwork Reduction Act of 1995, we are providing the opportunity for public comment on this action. After obtaining and considering public comment, NSF will prepare the submission requesting Office of Management and Budget (OMB) clearance of this collection for no longer than 3 years.

DATES: Written comments on this notice must be received by February 5, 2024 to be assured consideration. Comments received after that date will be considered to the extent practicable. Send comments to the address below.

FOR FURTHER INFORMATION CONTACT: Suzanne H. Plimpton, Reports Clearance Officer, National Science Foundation, 2415 Eisenhower Avenue, Suite E7400, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including Federal holidays).

SUPPLEMENTARY INFORMATION:

Title of Collection: IARPC Principles for Conducting Research in the Arctic Evaluation Survey.

OMB Control No.: 3145-New.

Expiration Date of Approval: Not applicable.

Abstract: The Interagency Arctic Research Policy Committee (IARPC) was established by the Arctic Research and Policy Act of 1984 (ARPA) to facilitate coordination and cooperation in Arctic research. Now a subcommittee of the National Science and Technology Council (NSTC), IARPC plays a critical role in enhancing scientific monitoring and advancing Arctic research through the coordination of Federal agencies as well as domestic and international collaborators. In 2018, IARPC released the revised Principles for Conducting Research in the Arctic OPP Principles for the Conduct of Research in the Arctic | NSF—National Science Foundation (https://www.nsf.gov/geo/opp/arctic/conduct.jsp) to guide research activities throughout the Arctic. In 2023, the IARPC's Participatory Research and Indigenous Leadership in Research Collaboration Team (one of five foundational activities in the Arctic Research Plan—IARPC Collaborations) (https://www.iarpccollaborations.org/plan/index.html) reframed these principles as SHARE:

• Sustain and build relationships

• Humble accountability

• Advance responsible environmental stewardship

• Effective communication

These Principles are directed at academic and federal researchers funded by IARPC agencies but are equally relevant to other individuals and organizations pursuing or funding research in the Arctic. They are guidelines for conducting responsible and ethical research and they encourage respect for all individuals, cultures, and the environment. The Principles are not intended to supplant existing regulations and guidelines; researchers should follow federal, state, and local regulations, policies and guidelines. Research involving human subjects must adhere to specific requirements. Projects on Indigenous homelands or involving Indigenous Peoples should be coordinated with Indigenous leadership and should follow all applicable regulations and local research guidelines.

The rapid changes occurring in the Arctic are complex, dynamic, and interconnected. Climate change and other environmental changes are profoundly impacting Arctic communities and have global consequences. As a result, emerging research questions are multidisciplinary and are best addressed by multiple Federal agencies working closely with non-Federal partners. Through a targeted approach to cross-cutting priority areas, the Interagency Arctic Research Policy Committee's (IARPC) Arctic Research Plan 2022-2026 addresses the most pressing Arctic research needs that require a collaborative approach and can advance understanding of the Arctic and climate change, inform policy and planning decisions, and promote the well-being of Arctic and global communities. The plan's priority areas respond to challenges identified by Arctic communities, Federal agencies with a presence in Alaska or a responsibility to understand the Arctic region, Federal agencies with Arctic investments, the state of Alaska, Tribal and Indigenous organizations, and other non-Federal entities.

Every five years, IARPC is required by law (ARPA) “to prepare and execute an Arctic Research Plan in coordination with the U.S. Arctic Research Commission, the Governor of the State of Alaska, residents of the Arctic, the private sector, and public interest groups.” The Arctic Research Plan 2022-2026 is the third plan since IARPC became a subcommittee of the NSTC and builds from the successes and communities of practice established by previous plans. It seeks to integrate these communities and create cross-cutting foci which require a focused research effort.

The IARPC PILR Collaboration work focuses on three objectives including PILR 1 to fulfill Federal requirement to consult with Federally recognized Tribes and Alaska Native Corporations. The IARPC Principles survey stems from PILR Deliverable 1.2 to Evaluate the Principles for Conducting Research in the Arctic 2018, and update as needed based on the evaluation. This survey will enable an evaluation of understanding and implementation of the SHARE Principles among three primary groups, Arctic Indigenous and local community members and leadership, the scientific research community, and federal agency personnel.

Respondents: Arctic Indigenous and local community members and leadership (100); scientific research community (100), and federal agency personnel (100).

Estimated Number of Annual Respondents: 300.

Burden on the Public: Estimated 20 minutes to fill out the form. The estimated burden time is 102 hours.

Dated: December 4, 2023.
Suzanne H. Plimpton,
Reports Clearance Officer, National Science Foundation.

[FR Doc. 2023-26888 Filed 12-6-23; 8:45 am]

BILLING CODE 7555-01-P